DEPARTMENT OF HOUSING AND URBAN DEVELOPMENT

[Docket No. FR-4901-N-30]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Marsha Pruitt, Reporters Building, 300 7th Street, SW., Rm 310B, Washington, DC 20250: (202) 720-4335; GSA: Mr. Brian K. Polly, Assistant Commissioner, General Services Administration, Office of Property Disposal, 18th and F Streets, NW., Washington, DC 20405; (202) 501-0084; Energy: Mr. Andy Duran, Department of Energy, Office of Engineering & Construction Management, ME-90, 1000 Independence Ave., SW., Washington, DC 20585; (202) 586-4548; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: July 15, 2004.
Mark R. Johnston,
Director, Office of Special Needs, Assistance Programs.

Title V, Federal Surplus Property Program Federal Register Report for 7/23/04

Suitable/Available Properties

Buildings (by State)

California

Bldg. YLS-002

Yosemite National Park

Yosemite Lodge

Mariosa Co: CA 95389-

Landholding Agency: Interior

Property Number: 61200430021

Status: Unutilized

Comment: 1000 sq. ft., most recent use—bike storage, off-site use only

Bldg. YLS-003

Yosemite National Park

Yosemite Lodge

Mariposa Co: CA 95389-

Landholding Agency: Interior

Property Number: 61200430022

Status: Unutilized

Comment: 1000 sq. ft., most recent use—storage, off-site use only

Bldg. YLV-007

Yosemite National Park

Yosemite Lodge

Mariposa Co: CA 95389-

Landholding Agency: Interior

Property Number: 61200430023

Status: Unutilized

Comment: 957 sq. ft., most recent use—bike storage, off-site use only

Bldg. YLL173

Yosemite National Park

Yosemite Lodge

Mariposa Co: CA 95389-

Landholding Agency: Interior

Property Number: 61200430024

Status: Unutilized

Comment: 7020 sq. ft., most recent use—guest accomodations, off-site use only

Bldg. 1000 E & F

Yosemite National Park

Yosemite Lodge

Mariposa Co: CA 95389-

Landholding Agency: Interior

Property Number: 61200430025

Status: Unutilized

Comment: 3600 sq. ft., most recent use—housing, off-site use only

Mississippi

Communication Tower

Mt. Pleasant VHF

Mt. Pleasant Co: Jackson MS

Landholding Agency: GSA

Property Number: 54200430002

Status: Excess

Comment: 300 ft. tower w/guy wires and equipment bldg., subject to existing easements

GSA Number: 4-D-MS-0564

Tennessee

Federal Building

204 North Second Street

Clarksville Co: Montgomery TN 37040-

Landholding Agency: GSA

Property Number: 54200430003

Status: Excess

Comment: 13429 gross sq. ft., presence of asbestos, possible lead paint, most recent use—office, historic preservation covenants

GSA Number: 4-G-TN-0654

Unsuitable Properties

Buildings (by State)

California

Bldgs. 412-414

Yosemite National Park

Lower Pines

Yosemite Co: Mariposa CA 95389-

Landholding Agency: Interior

Property Number: 61200430001

Status: Unutilized

Reason: Extensive deterioration

Bldg. 416

Yosemite National Park

Lower Pines

Yosemite Co: Mariposa CA 95389-

Landholding Agency: Interior

Property Number: 61200430002

Status: Unutilized

Reason: Extensive deterioration

Bldgs. 421-424

Yosemite National Park

Upper River

Yosemite Co: Mariposa CA 95389-

Landholding Agency: Interior

Property Number: 61200430003

Status: Unutilized

Reason: Extensive deterioration

Bldgs. 428-432

Yosemite National Park

Lower River

Yosemite Co: Mariposa CA 95389-

Landholding Agency: Interior

Property Number: 61200430004

Status: Unutilized

Reason: Extensive deterioration

Bldgs. 451, 452

Yosemite National Park

Group Campgrounds

Yosemite Co: Mariposa CA 95389-

Landholding Agency: Interior

Property Number: 61200430005

Status: Unutilized

Reason: Extensive deterioration

Bldg. 438

Golden Gate Natl Rec

Camino Del Canyon

Mill Valley Co: Marin CA 94941-

Landholding Agency: Interior

Property Number: 61200430012

Status: Unutilized

Reason: Extensive deterioration

Bldg. 490

Golden Gate Natl Rec

Camino Del Canyon

Mill Valley Co: Marin CA 94941-

Landholding Agency: Interior

Property Number: 61200430013

Status: Unutilized

Reason: Extensive deterioration

Bldgs. 666A, 666B

Golden Gate Natl Rec

Camino Del Canyon

Mill Valley Co: Marin CA 94941-

Landholding Agency: Interior

Property Number: 61200430014

Status: Unutilized

Reason: Extensive deterioration

Bldg. 690

Golden Gate Natl Rec

Camino Del Canyon

Mill Valley Co: Marin CA 94941-

Landholding Agency: Interior

Property Number: 61200430015

Status: Unutilized

Reason: Extensive deterioration

Tract 113-65

Santa Monica Mountains

National Recreation

Malibu Co: Los Angeles CA 90265-

Landholding Agency: Interior

Property Number: 61200430018

Status: Unutilized

Reason: Extensive deterioration

Bldg. YLS-001

Yosemite National Park

Yosemite Lodge

Mariposa Co: CA 95389-

Landholding Agency: Interior

Property Number: 61200430026

Status: Unutilized

Reason: Extensive deterioration

Bldg. YLS-004

Yosemite National Park

Yosemite Lodge

Mariposa Co: CA 95389-

Landholding Agency: Interior

Property Number: 61200430027

Status: Unutilized

Reason: Extensive deterioration

Bldg. YLE069

Yosemite National Park

Yosemite Lodge

Mariposa Co: CA 95389-

Landholding Agency: Interior

Property Number: 61200430028

Status: Unutilized

Reason: Extensive deterioration

Bldg. 1000 A & B

Yosemite National Park

Yosemite Lodge

Mariposa Co: CA 95389-

Landholding Agency: Interior

Property Number: 61200430029

Status: Unutilized

Reason: Extensive deterioration

Bldgs. 1000C, 1000D

Yosemite National Park

Yosemite Lodge

Mariposa Co: CA 95389-

Landholding Agency: Interior

Property Number: 61200430030

Status: Unutilized

Reason: Extensive deterioration

Post Office

Yosemite National Park

Yosemite Lodge

Mariposa Co: CA 95389-

Landholding Agency: Interior

Property Number: 61200430031

Status: Unutilized

Reason: Extensive deterioration

Boiler Room

Yosemite National Park

Yosemite Lodge

Mariposa Co: CA 95389-

Landholding Agency: Interior

Property Number: 61200430032

Status: Unutilized

Reason: Extensive deterioration

Bldg. 4177

Yosemite National Park

Mariposa Co: CA 95389-

Landholding Agency: Interior

Property Number: 61200430036

Status: Unutilized

Reason: Extensive deterioration

Bldg. 4153

Yosemite National Park

Mariposa Co: CA 95389-

Landholding Agency: Interior

Property Number: 61200430037

Status: Unutilized

Reason: Extensive deterioration

Bldg. 4205

Yosemite National Park

Mariposa Co: CA 95389-

Landholding Agency: Interior

Property Number: 61200430038

Status: Unutilized

Reason: Extensive deterioration

Bldg. 4730

Yosemite National Park

Mariposa Co: CA 95389-

Landholding Agency: Interior

Property Number: 61200430039

Status: Unutilized

Reason: Extensive deterioration

Bldgs. 4176, 4183

Yosemite National Park

Wawona Co: Mariposa CA 95389-

Landholding Agency: Interior

Property Number: 61200430040

Status: Unutilized

Reason: Extensive deterioration

Bldg. 652

Naval Air Station

North Island Co: CA

Landholding Agency: Navy

Property Number: 77200430001

Status: Excess

Reason: Extensive deterioration

Bldg. 2486

Marine Corps Base

Camp Pendleton Co: CA 92055-

Landholding Agency: Navy

Property Number: 77200430002

Status: Excess

Reason: Extensive deterioration

Bldg. 13140

Marine Corps Base

Camp Pendleton Co: CA 92055-

Landholding Agency: Navy

Property Number: 77200430003

Status: Excess

Reason: Extensive deterioration

Bldgs. 22141, 22142

Marine Corps Base

Camp Pendleton Co: CA 92055-

Landholding Agency: Navy

Property Number: 77200430004

Status: Excess

Reason: Extensive deterioration

Bldg. 25170

Marine Corps Base

Camp Pendleton Co: CA 92055-

Landholding Agency: Navy

Property Number: 77200430005

Status: Excess

Reason: Extensive deterioration

Bldgs. 31340, 31341

Marine Corps Base

Camp Pendleton Co: CA 92055-

Landholding Agency: Navy

Property Number: 77200430006

Status: Excess

Reason: Extensive deterioration

Bldg. 52652

Marine Corps Base

Camp Pendleton Co: CA 92055-

Landholding Agency: Navy

Property Number: 77200430007

Status: Excess

Reason: Extensive deterioration

Colorado

Bldg. 833

Rocky Mountain Natl Park

Estes Park Co: Larimer CO 80517-

Landholding Agency: Interior

Property Number: 61200430016

Status: Unutilized

Reason: Extensive deterioration

Florida

Bldgs. 1559, 1963

Naval Station

Mayport Co: Duval FL 32228-

Landholding Agency: Navy

Property Number: 77200430008

Status: Unutilized

Reasons: Within 2000 ft. of flammable or explosive material Secured Area

Hawaii

Bldg. X-10

Navy Public Works

Pearl Harbor Co: Honolulu HI 96860-

Landholding Agency: Navy

Property Number: 77200430009

Status: Excess

Reason: Extensive deterioration

Bldg. 517

Naval Station

Beckoning Point

Pearl Harbor Co: Honolulu HI 96860-

Landholding Agency: Navy

Property Number: 77200430010

Status: Excess

Reason: Extensive deterioration

Bldg. 41NS

Naval Station

Beckoning Point

Pearl Harbor Co: Honolulu HI 96860-

Landholding Agency: Navy

Property Number: 77200430011

Status: Excess

Reason: Extensive deterioration

Bldg. 57NS

Naval Station

Beckoning Point

Pearl Harbor Co: Honolulu HI 96860-

Landholding Agency: Navy

Property Number: 77200430012

Status: Excess

Reason: Extensive deterioration

Bldg. 1G

Naval Station

Pearl Harbor Co: Honolulu HI 96860-

Landholding Agency: Navy

Property Number: 77200430013

Status: Excess

Reason: Extensive deterioration

Bldg. 5293

Naval Station

Pearl Harbor Co: Honolulu HI 96860-

Landholding Agency: Navy

Property Number: 77200430014

Status: Excess

Reason: Extensive deterioration

Indiana

Bldg. 2780

Naval Support Activity

Crane Co: Martin IN 47522-

Landholding Agency: Navy

Property Number: 77200430015

Status: Excess

Reasons: Within 2000 ft. of flammable or explosive material Secured Area, Extensive deterioration

Bldg. 2893

Naval Support Activity

Crane Co: Martin IN 47522-

Landholding Agency: Navy

Property Number: 77200430016

Status: Excess

Reasons: Within 2000 ft. of flammable or explosive material Secured Area, Extensive deterioration

Bldgs. 113, 114

Naval Support Activity

Crane Co: Martin IN 47522-

Landholding Agency: Navy

Property Number: 77200430017

Status: Excess

Reasons: Within 2000 ft. of flammable or explosive material Secured Area, Extensive deterioration

Bldg. 181

Naval Support Activity

Crane Co: Martin IN 47522-

Landholding Agency: Navy

Property Number: 77200430018

Status: Excess

Reasons: Within 2000 ft. of flammable or explosive material Secured Area, Extensive deterioration

Bldg. 2109

Naval Support Activity

Crane Co: Martin IN 47522-

Landholding Agency: Navy

Property Number: 77200430019

Status: Excess

Reasons: Within 2000 ft. of flammable or explosive material Secured Area, Extensive deterioration

Bldg. 2777

Naval Support Activity

Crane Co: Martin IN 47522-

Landholding Agency: Navy

Property Number: 77200430020

Status: Excess

Reasons: Within 2000 ft. of flammable or explosive material Secured Area, Extensive deterioration

Bldg. 2889

Naval Support Activity

Crane Co: Martin IN 47522-

Landholding Agency: Navy

Property Number: 77200430021

Status: Excess

Reasons: Within 2000 ft. of flammable or explosive material Secured Area, Extensive deterioration

Bldg. 2926

Naval Support Activity

Crane Co: Martin IN 47522-

Landholding Agency: Navy

Property Number: 77200430022

Status: Excess

Reasons: Within 2000 ft. of flammable or explosive material Secured Area, Extensive deterioration

Bldg. 3207

Naval Support Activity

Crane Co: Martin IN 47522-

Landholding Agency: Navy

Property Number: 77200430023

Status: Excess

Reasons: Within 2000 ft. of flammable or explosive material Secured Area, Extensive deterioration

Maryland

Tract 399-24

Appalachian Trail

Cascade Co: Washington MD 21719-

Landholding Agency: Interior

Property Number: 61200430019

Status: Unutilized

Reason: Extensive deterioration

Massachusetts

Jaquith House

National Seashore

Eastham Co: Barnstable MA

Landholding Agency: Interior

Property Number: 61200430017

Status: Unutilized

Reason: Extensive deterioration

Tract 13T-2613

National Seashore

Truro Co: Barnstable MA

Landholding Agency: Interior

Property Number: 61200430033

Status: Unutilized

Reason: Extensive deterioration

Bldg. E236

National Seashore

Eastham Co: Barnstable MA

Landholding Agency: Interior

Property Number: 61200430034

Status: Unutilized

Reason: Extensive deterioration

New Mexico

Bldgs. 001A, 001B, 001C

Pigeon's Ranch

Glorieta Co: Santa Fe NM 87535-

Landholding Agency: Interior

Property Number: 61200430006

Status: Unutilized

Reason: Extensive deterioration

Bldgs. 002A, 002B, 002C

Pigeon's Ranch

Glorieta Co: Santa Fe NM 87535-

Landholding Agency: Interior

Property Number: 61200430007

Status: Unutilized

Reason: Extensive deterioration

Bldgs. 002D, 002F

Pigeon's Ranch

Glorieta Co: Santa Fe NM 87535-

Landholding Agency: Interior

Property Number: 61200430008

Status: Unutilized

Reason: Extensive deterioration

Bldg. 003A

Pigeon's Ranch

Glorieta Co: Santa Fe NM 87535-

Landholding Agency: Interior

Property Number: 61200430009

Status: Unutilized

Reason: Extensive deterioration

Blgs. 004A, 004B

Pigeon's Ranch

Glorieta Co: Santa Fe NM 87535-

Landholding Agency: Interior

Property Number: 61200430010

Status: Unutilized

Reason: Extensive deterioration

Bldgs. 006A, 006B

Pigeon's Ranch

Glorieta Co: Santa Fe NM 87535-

Landholding Agency: Interior

Property Number: 61200430011

Status: Unutilized

Reason: Extensive deterioration

Ohio

Bldg. 18

Appalachian Watershed Rsch

Coshocton Co: OH 43812-

Landholding Agency: Agriculture

Property Number: 15200430001

Status: Unutilized

Reason: Secured Area

South Carolina

Bldg. 704-002N

Savannah River Operations

Aiken Co: SC 29802-

Landholding Agency: Energy

Property Number: 41200430001

Status: Excess

Reason: Secured Area

Bldg. 710-015N

Savannah River Operations

Aiken Co: SC 29802-

Landholding Agency: Energy

Property Number: 41200430002

Status: Excess

Reason: Secured Area

Bldg. 713-000N

Savannah River Operations

Aiken Co: SC 29802-

Landholding Agency: Energy

Property Number: 41200430003

Status: Excess

Reason: Secured Area

Bldg. 717-000C

Savannah River Operations

Aiken Co: SC 29802-

Landholding Agency: Energy

Property Number: 41200430004

Status: Excess

Reason: Secured Area

Bldg. 717-011N

Savannah River Opeations

Aiken Co: SC 29802-

Landholding Agency: Energy

Property Number: 41200430005

Status: Excess

Reason: Secured Area

Bldgs. 80-9G, 10G

Savannah River Operations

Aiken Co: SC 29802-

Landholding Agency: Energy

Property Number: 41200430006

Status: Excess

Reason: Secured Area

Bldgs. 105-P, 105-R

Savannah River Operations

Aiken Co: SC 29802-

Landholding Agency: Energy

Property Number: 41200430007

Status: Excess

Reason: Secured Area

Bldg. 183-002P

Savannah River Operations

Aiken Co: SC 29802-

Landholding Agency: Energy

Property Number: 41200430008

Status: Excess

Reason: Secured Area

Bldg. 183-003L

Savannah River Operations

Aiken Co: SC 29802-

Landholding Agency: Energy

Property Number: 41200430009

Status: Excess

Reason: Secured Area

Bldgs. 183-004K, 004L, 004P

Savannah River Operations

Aiken Co: SC 29802-

Landholding Agency: Energy

Property Number: 41200430010

Status: Excess

Reason: Secured Area

6 Bldgs.

Savannah River Operations

Aiken Co: SC 29802

Location: 185-000K, 607-020K, 110-000L, 107-000P, 607-024P, 109-000R

Landholding Agency: Energy

Property Number: 41200430011

Status: Excess

Reason: Secured Area

Bldg. 191-000L

Savannah River Operations

Aiken Co: SC 29802-

Landholding Agency: Energy

Property Number: 41200430012

Status: Excess

Reason: Secured Area

Bldgs. 211-005F, 008F, 042F

Savannah River Operations

Aiken Co: SC 29802-

Landholding Agency: Energy

Property Number: 41200430013

Status: Excess

Reason: Secured Area

Bldg. 221-016F

Savannah River Operations

Aiken Co: SC 29802-

Landholding Agency: Energy

Property Number: 41200430014

Status: Excess

Reason: Secured Area

Bldgs. 221-034F, 035F

Savannah River Operations

Aiken Co: SC 29802-

Landholding Agency: Energy

Property Number: 41200430015

Status: Excess

Reason: Secured Area

Bldgs. 221-053F, 054F

Savannah River Operations

Aiken Co: SC 29802-

Landholding Agency: Energy

Property Number: 41200430016

Status: Excess

Reason: Secured Area

Bldgs. 252-003F, 005F

Savannah River Operations

Aiken Co: SC 29802-

Landholding Agency: Energy

Property Number: 41200430017

Status: Excess

Reason: Secured Area

Bldg. 607-022P

Savannah River Operations

Aiken Co: SC 29802-

Landholding Agency: Energy

Property Number: 41200430018

Status: Excess

Reason: Secured Area

Bldg. 614-002P

Savannah River Operations

Aiken Co: SC 29802-

Landholding Agency: Energy

Property Number: 41200430019

Status: Excess

Reason: Secured Area

Bldg. 647-000G

Savannah River Operations

Aiken Co: SC 29802-

Landholding Agency: Energy

Property Number: 41200430020

Status: Excess

Reason: Secured Area

Bldgs. 701-002P, 012A

Savannah River Operations

Aiken Co: SC 29802-

Landholding Agency: Energy

Property Number: 41200430021

Status: Excess

Reason: Secured Area

Bldg. 704-000P

Savannah River Operations

Aiken Co: SC 29802-

Landholding Agency: Energy

Property Number: 41200430022

Status: Excess

Reason: Secured Area

Bldg. 709-000A

Savannah River Operations

Aiken Co: SC 29802-

Landholding Agency: Energy

Property Number: 41200430023

Status: Excess

Reason: Secured Area

Bldg. 710-000N

Savannah River Operations

Aiken Co: SC 29802-

Landholding Agency: Energy

Property Number: 41200430024

Status: Excess

Reason: Secured Area

Bldgs. 723-001L, 002L, 003L

Savannah River Operations

Aiken Co: SC 29802-

Landholding Agency: Energy

Property Number: 41200430025

Status: Excess

Reason: Secured Area

Bldg. 725-000A

Savannah River Operations

Aiken Co: SC 29802-

Landholding Agency: Energy

Property Number: 41200430026

Status: Excess

Reason: Secured Area

Bldg. 763-000A

Savannah River Operations

Aiken Co: SC 29802-

Landholding Agency: Energy

Property Number: 41200430027

Status: Excess

Reason: Secured Area

Bldg. 221-013F

Savannah River Operations

Aiken Co: SC 29802-

Landholding Agency: Energy

Property Number: 41200430028

Status: Excess

Reason: Secured Area

Bldg. 278-002N

Savannah River Operations

Aiken Co: SC 29802-

Landholding Agency: Energy

Property Number: 41200430029

Status: Excess

Reason: Secured Area

Bldg. 315-M

Savannah River Operations

Aiken Co: SC 29802-

Landholding Agency: Energy

Property Number: 41200430030

Status: Excess

Reason: Secured Area

Bldg. 607-001A

Savannah River Operations

Aiken Co: SC 29802-

Landholding Agency: Energy

Property Number: 41200430031

Status: Excess

Reason: Secured Area

Bldg. 607-009C

Savannah River Operations

Aiken Co: SC 29802-

Landholding Agency: Energy

Property Number: 41200430032

Status: Excess

Reason: Secured Area

Bldg. 607-016A

Savannah River Operations

Aiken Co: SC 29802-

Landholding Agency: Energy

Property Number: 41200430033

Status: Excess

Reason: Secured Area

Bldg. 607-038N

Savannah River Operations

Aiken Co: SC 29802-

Landholding Agency: Energy

Property Number: 41200430034

Status: Excess

Reason: Secured Area

Bldg. 614-002C

Savannah River Operations

Aiken Co: SC 29802-

Landholding Agency: Energy

Property Number: 41200430035

Status: Excess

Reason: Secured Area

Bldg. 614-002K

Savannah River Operations

Aiken Co: SC 29802-

Landholding Agency: Energy

Property Number: 41200430036

Status: Excess

Reason: Secured Area

Bldg. 614-002L

Savannah River Operations

Aiken Co: SC 29802-

Landholding Agency: Energy

Property Number: 41200430037

Status: Excess

Reason: Secured Area

Bldg. 701-001F

Savannah River Operations

Aiken Co: SC 29802-

Landholding Agency: Energy

Property Number: 41200430038

Status: Excess

Reason: Secured Area

Bldg. 701-002C

Savannah River Operations

Aiken Co: SC 29802-

Landholding Agency: Energy

Property Number: 41200430039

Status: Excess

Reason: Secured Area

Bldg. 716-002A

Savannah River Operations

Aiken Co: SC 29802-

Landholding Agency: Energy

Property Number: 41200430040

Status: Excess

Reason: Secured Area

Bldg. 901-001K

Savannah River Operations

Aiken Co: SC 29802-

Landholding Agency: Energy

Property Number: 41200430041

Status: Excess

Reason: Secured Area

Bldgs. 221-21F, 22F

Savannah River Operations

Aiken Co: SC 29802

Landholding Agency: Energy

Property Number: 41200430042

Status: Excess

Reason: Secured Area

Bldg. 221-033F

Savannah River Operations

Aiken Co: SC 29802-

Landholding Agency: Energy

Property Number: 41200430043

Status: Excess

Reason: Secured Area

Bldg. 254-007F

Savannah River Operations

Aiken Co: SC 29802-

Landholding Agency: Energy

Property Number: 41200430044

Status: Excess

Reason: Secured Area

Bldg. 281-001F

Savannah River Operations

Aiken Co: SC 29802-

Landholding Agency: Energy

Property Number: 41200430045

Status: Excess

Reason: Secured Area

Bldg. 281-004F

Savannah River Operations

Aiken Co: SC 29802-

Landholding Agency: Energy

Property Number: 41200430046

Status: Excess

Reason: Secured Area

Bldg. 281-006F

Savannah River Operations

Aiken Co: SC 29802-

Landholding Agency: Energy

Property Number: 41200430047

Status: Excess

Reason: Secured Area

Bldg. 305-000A

Savannah River Operations

Aiken Co: SC 29802-

Landholding Agency: Energy

Property Number: 41200430048

Status: Excess

Reason: Secured Area

Bldg. 701-012A

Savannah River Operations

Aiken Co: SC 29802-

Landholding Agency: Energy

Property Number: 41200430049

Status: Excess

Reason: Secured Area

Bldg. 703-045A

Savannah River Operations

Aiken Co: SC 29802-

Landholding Agency: Energy

Property Number: 41200430050

Status: Excess

Reason: Secured Area

Bldg. 703-071A

Savannah River Operations

Aiken Co: SC 29802-

Landholding Agency: Energy

Property Number: 41200430051

Status: Excess

Reason: Secured Area

Bldg. 709-000A

Savannah River Operations

Aiken Co: SC 29802-

Landholding Agency: Energy

Property Number: 41200430052

Status: Excess

Reason: Secured Area

Bldg. 710-000A

Savannah River Operations

Aiken Co: SC 29802-

Landholding Agency: Energy

Property Number: 41200430053

Status: Excess

Reason: Secured Area

Bldg. 713-000A

Savannah River Operations

Aiken Co: SC 29802-

Landholding Agency: Energy

Property Number: 41200430054

Status: Excess

Reason: Secured Area

Bldg. 716-A

Savannah River Operations

Aiken Co: SC 29802-

Landholding Agency: Energy

Property Number: 41200430055

Status: Excess

Reason: Secured Area

Bldg. 719-000A

Savannah River Operations

Aiken Co: SC 29802-

Landholding Agency: Energy

Property Number: 41200430056

Status: Excess

Reason: Secured Area

Bldg. 720-000A

Savannah River Operations

Aiken Co: SC 29802-

Landholding Agency: Energy

Property Number: 41200430057

Status: Excess

Reason: Secured Area

Bldg. 754-008A

Savannah River Operations

Aiken Co: SC 29802-

Landholding Agency: Energy

Property Number: 41200430058

Status: Excess

Reason: Secured Area

Bldg. 763-000A

Savannah River Operations

Aiken Co: SC 29802-

Landholding Agency: Energy

Property Number: 41200430059

Status: Excess

Reason: Secured Area

Bldgs. 772-008G, 009G, 010G

Savannah River Operations

Aiken Co: SC 29802-

Landholding Agency: Energy

Property Number: 41200430060

Status: Excess

Reason: Secured Area

Bldg. 777-010A

Savannah River Operations

Aiken Co: SC 29802-

Landholding Agency: Energy

Property Number: 41200430061

Status: Excess

Reason: Secured Area

Bldgs. 709-005F, 004F

Savannah River Operations

Aiken Co: SC 29802-

Landholding Agency: Energy

Property Number: 41200430062

Status: Excess

Reason: Secured Area

Tennessee

Tract 01-166

Stones River

National Battlefield

Murfreesboro Co: Rutherford TN 37129-

Landholding Agency: Interior

Property Number: 61200430020

Status: Excess

Reason: Extensive deterioration

25 Bldgs.

Naval Support Activity

Millington Co: TN 38054-

Location: 2032, 2037, 2041, 2043, 2056, 2072, 2085-2086, 2089-2090, 2099, 2103, 2105-2106, 501, 596, 429, 431-433, 1045, 570-573

Landholding Agency: Navy

Property Number: 77200430024

Status: Excess

Reason: Secured Area

Washington

Bldg. 96

Cascades National Park

Stehekin Co: Chelan WA 98852-

Landholding Agency: Interior

Property Number: 61200430035

Status: Unutilized

Reason: Extensive deterioration

Bldg. 8

Naval Reserve Center

Spokane Co: WA 99205-

Landholding Agency: Navy

Property Number: 77200430025

Status: Excess

Reasons: Secured Area, Extensive deterioration

Bldgs. 10, 11

Naval Reserve Center

Spokane Co: WA 99205-

Landholding Agency: Navy

Property Number: 77200430026

Status: Excess

Reasons: Secured Area, Extensive deterioration

Bldgs. 2656-2658

Naval Air Station

Lake Hancock

Coupeville Co: Island WA 98239-

Landholding Agency: Navy

Property Number: 77200430027

Status: Unutilized

Reason: Secured Area

Land (by State)

Kentucky

Tracts 111, 112 (Partial)

Dyer Creek Access Site

Smithland Locks & Dam

Smithland Co: Livingston KY

Landholding Agency: GSA

Property Number: 54200430001

Status: Surplus

Reason: Flooding

GSA Number: 4-D-KY-568-B

[FR Doc. 04-16519 Filed 7-22-04; 8:45 am]

BILLING CODE 4210-29-P